DEPARTMENT OF EDUCATION

[Docket No.: ED-2016-ICCD-0039]

Agency Information Collection Activities; Comment Request; Teacher Follow-Up Survey (TFS 2016-17) to the National Teacher and Principal Survey (NTPS 2015-16)

AGENCY: National Center for Education Statistics (NCES), Department of Education (ED).

ACTION: Notice.

SUMMARY: In accordance with the Paperwork Reduction Act of 1995 (44 U.S.C. chapter 3501 et seq.), ED is proposing a reinstatement of a previously approved information collection.

DATES: Interested persons are invited to submit comments on or before June 3, 2016.

ADDRESSES: To access and review all the documents related to the information collection listed in this notice, please use http://www.regulations.gov by searching the Docket ID number ED-2016-ICCD-0039. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-105, Washington, DC 20202-4537.

FOR FURTHER INFORMATION CONTACT: For specific questions related to collection activities, please contact Kashka Kubzdela at kashka.kubzdela@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Teacher Follow-up Survey (TFS 2016-17) to the National Teacher and Principal Survey (NTPS 2015-16).

OMB Control Number: 1850-0617.

Type of Review: A reinstatement of a previously approved information collection.

Respondents/Affected Public: Individuals.

Total Estimated Number of Annual Responses: 13,213.

Total Estimated Number of Annual Burden Hours: 3,133.

Abstract: This request is to conduct data collection for the 2016-17 Teacher Follow-up Survey (TFS), a one-year follow up of a subsample of teachers who responded to the 2015-2016 National Teacher and Principal Survey (NTPS). TFS is conducted by the National Center for Education Statistics (NCES), of the Institute of Education Sciences (IES), within the U.S. Department of Education (ED). The TFS has been conducted seven times previously beginning in 1988-89 as a follow up to the first administration of the Schools and Staffing Survey (SASS) in 1987-88. It was subsequently administered as a follow up to SASS in 1991-92, 1994-95, 2000-2001, 2004-2005, 2008-2009, and, most recently, 2012-2013 (OMB# 1850-0598 v.9). During the 2015-16 school year, NCES conducted the first NTPS (OMB #1850-0598 v.11), a redesign of SASS to improve the flexibility, efficiency, and timeliness of NCES data on the nation's K-12 schools, principals, and teachers. While NTPS data will now be collected every two years, the TFS will remain on a four-year cycle, with its next administration in 2020-21. The 2016-17 TFS will be the first to launch from the redesigned NTPS.

Dated: March 30, 2016.
Stephanie Valentine,
Acting Director, Information Collection Clearance Division, Office of the Chief Privacy Officer, Office of Management.

[FR Doc. 2016-07621 Filed 4-1-16; 8:45 am]

BILLING CODE 4000-01-P